DEPARTMENT OF LABOR

Employment and Training Administration

[TA-W-62,392]

G.E. Zenith Controls; Bonham, TX; Notice of Termination of Investigation

Pursuant to section 221 of the Trade Act of 1974, an investigation was initiated on October 31, 2007, in response to a worker petition filed by a company official on behalf of workers at G.E. Zenith Controls, Bonham, Texas.

The petitioner has requested that the petition be withdrawn. Consequently, the investigation has been terminated.

Signed at Washington, DC, this 20th day of November 2007.
Richard Church,
Certifying Officer, Division of Trade Adjustment Assistance.

[FR Doc. E7-23378 Filed 11-30-07; 8:45 am]

BILLING CODE 4510-FN-P